FEDERAL COMMUNICATIONS COMMISSION

Sunshine Act Meeting; Open Commission Meeting; Thursday, September 25, 2008

September 18, 2008.

The Federal Communications Commission will hold an Open Meeting on the subjects listed below on Thursday, September 25, 2008, which is scheduled to commence at 10 a.m. in Room TW-C305, at 445 12th Street, SW., Washington, DC.

Item No. | Bureau | Subject
1 | Media | Title: Nameloc, Inc. (Assignor) and ABC, Inc. (Assignee) Application for Assignment of License of Station KDIS-FM, (formerly KYFX(FM)), Little Rock, Arkansas.
|  | Summary: The Commission will consider a Memorandum Opinion and Order concerning Applications for Review and Motions for Stay by Nameloc, Inc. and Arkansas Regional Minority Supplier Development Council, et al.
2 | Media | Title: Amendment of Section 73.202(b), Table of Allotments, FM Broadcast Stations, (Chillicothe and Ashville, Ohio) (MM Docket No. 99-322; RM-9762).
|  | Summary: The Commission will consider a Memorandum Opinion and Order concerning an Application for Review by Franklin Communications, Inc., North American Broadcasting, Co., and WCLT Radio Incorporated.
3 | Media | Title: Kidd Communications and Pamplin Broadcasting-Oregon, Inc. Applications for a Construction Permit for New AM Station at Truckee, California and Jacksonville, Oregon.
|  | Summary: The Commission will consider a Memorandum Opinion and Order concerning an Application for Review by Kidd Communications.
4 | Media | Title: Amendment of Section 73.202(b), Table of Allotments, FM Broadcast Stations, (Emmetsburg, Sanborn and Sibley, Iowa, and Brandon, South Dakota) (MM Docket No. 01-65; RM-10078, RM-10188, RM-10189).
|  | Summary: The Commission will consider a Memorandum Opinion and Order concerning an Application for Review by Saga Communications of Iowa, LLC.
5 | Media | Title: Amendment of Section 73.202(b), Table of Allotments, FM Broadcast Stations, (Vinton, Louisiana, and Crystal Beach, Lumberton and Winnie, Texas) (MB Docket No. 02-212; RM-10516, RM-10618).
|  | Summary: The Commission will consider a Memorandum Opinion and Order concerning an Application for Review by Charles Crawford.
6 | Media | Title: Reexamination of the Comparative Standards for Noncommercial Educational Application (MM Docket No. 95-31).
|  | Summary: The Commission will consider a Memorandum Opinion and Third Order on Reconsideration concerning petitions for reconsideration against the Reexamination of the Comparative Standards for Noncommercial Educational Applicants.
7 | Media | Title: Applications for Consent to the Assignment and/or Transfer of Control of Licenses, Adelphia Communications Corporation to Time Warner Cable Inc.; Adelphia Communications Corporation to Comcast Corporation; Comcast Corporation to Time Warner Inc.; Time Warner Inc. to Comcast Corporation (MB Docket No. 05-192).
|  | Summary: The Commission will consider an Order on Reconsideration concerning a Petition for Reconsideration by IBC Worldwide, Ltd.
8 | Media | Title: RB Schools Applications for Construction Permit for New Noncommercial Educational FM Stations and Health Radio, Inc. Application for Construction Permit for a New Noncommercial Educational FM Station on Channel 216 at Knoxville, Tennessee.
|  | Summary: The Commission will consider a Memorandum Opinion and Order concerning Applications for Review by RB Schools and Health Radio, Inc.
9 | Media | Title: Amendment of Section 73.202(b), FM Table of Allotments, FM Broadcast Stations, (Caro and Cass City, Michigan) (MM Docket No. 01-33; RM-10060).
|  | Summary: The Commission will consider a Memorandum Opinion and Order concerning an Application for Review by Edward Czelada.
10 | Media | Title: Oral Roberts University and Community Television Education, Inc. Applications for a Construction Permit for a New Noncommercial Educational Television Station on DTV Channel *26, Tulsa, OK.
|  | Summary: The Commission will consider a Memorandum Opinion and Order concerning mutually exclusive permit applications for a construction permit for a new noncommercial educational DTV television station.
11 | Media | Title: Edward A. Schober Application for a Construction Permit for a New FM Translator Station at Manahawkin, New Jersey.
|  | Summary: The Commission will consider a Memorandum Opinion and Order concerning an Application for Review by Greater Philadelphia Radio, Inc.
12 | Media | Title: Eagle Broadcasting Company, Inc. and Eagle II Broadcasting Company, Inc. and Saga Communications of New England, LLC Applications for Assignment of License of WHCU(AM), WYXL(FM), WNYY(AM), and WQNY(FM), Ithaca, New York.
|  | Summary: The Commission will consider a Memorandum Opinion and Order concerning an Application for Review by Finger Lakes Alliance for Independent Media.
13 | Media | Title: Royce International Broadcasting, Co., KM Communications, Inc., James K. Zahn, and Susquehanna Radio Corp. Applications for New AM Broadcast Stations.
|  | Summary: The Commission will consider a Memorandum Opinion and Order concerning an Application for Review by Susquehanna Radio Corp. and a Petition for Reconsideration by James K. Zahn.
14 | Media | Title: An Inquiry into the Commission's Policies and Rules Regarding AM Radio Service Directional Antenna Performance Verification (MM Docket No. 93-177).
|  | Summary: The Commission will consider a Second Report and Order and a Second Further Notice of Proposed Rulemaking concerning proposed changes to rules regarding AM directional antenna field strength measurements.
15 | Media | Title: Amendment of Service and Eligibility Rules for FM Broadcast Translator Stations (MB Docket No. 07-172; RM-11338).
|  | Summary: The Commission will consider a Report and Order concerning proposed changes to service rules for FM translators.
16 | General Counsel | Title: A Freedom of Information Act (FOIA) request for inspection of records by Mary O'Grady and a request for confidential treatment by Fusion Telecommunications International, Inc.
|  | Summary: The Commission will consider an application for review of a ruling by the International Bureau granting a Freedom of Information Act request by Mary O'Grady and denying a request for confidentiality by Fusion Telecommunications International, Inc. regarding certain telecommunications agreements between Fusion and Telecommunications d'Haiti.
17 | Wireless Tele-Communications Public Safety and Homeland Security Engineering & Technology | Title: Service Rules for the 698-746, 747-762 and 777-792 MHz Band (WT Docket No. 06-150) and Implementing a Nationwide, Broadband, Interoperable Public Safety Network in the 700 MHz Band (PS Docket No. 06-229).
|  | Summary: The Commission will consider a Third Further Notice of Proposed Rulemaking seeking comment on rules governing the Upper 700 MHz D Block, the public safety broadband spectrum, and the 700 MHz Public/Private Partnership.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services, call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events web page at http://www.fcc.gov/realaudio.

Federal Communications Commission.
Marlene H. Dortch,
Secretary.

[FR Doc. E8-22548 Filed 9-23-08; 4:15 pm]

BILLING CODE 6712-01-P